DEPARTMENT OF THE INTERIOR

Fish and Wildlife Service

[Docket No. FWS-HQ-MB-2018-0048; FXMB 12320900000//212//FF09M22000]

List of Bird Species to Which the Migratory Bird Treaty Act Does Not Apply; Correction

AGENCY: Fish and Wildlife Service, Interior.

ACTION: Notice; correction.

SUMMARY: We, the U.S. Fish and Wildlife Service, are correcting our April 16, 2020, notice that published an amended list of the nonnative bird species that have been introduced by humans into the United States or U.S. territories and to which the Migratory Bird Treaty Act (MBTA) does not apply. That list erroneously included one bird species, European Robin (Erithacus rubecula), that is covered by the MBTA.

FOR FURTHER INFORMATION CONTACT: Eric L. Kershner, Chief, Branch of Conservation, Permits, and Regulations; Division of Migratory Bird Management; U.S. Fish and Wildlife Service; MS: MB; 5275 Leesburg Pike, Falls Church, VA 22041-3803; (703) 358-2376.

SUPPLEMENTARY INFORMATION: On April 16, 2020, we published two documents in the Federal Register:

1. A final rule revising the regulations in title 50 of the Code of Federal Regulations (CFR) at § 10.13 (50 CFR 10.13) that sets forth the List of Migratory Birds protected by the Migratory Bird Treaty Act (MBTA; 16 U.S.C. 703 et seq.) (85 FR 21282; 2020-06779); and

2. A notice publishing an amended list of the nonnative bird species that have been introduced by humans into the United States or U.S. territories and to which the MBTA does not apply (85 FR 21262; 2020-06782).

One bird species, European Robin (Erithacus rubecula), was erroneously included in both published documents. In the final rule revising the regulations in 50 CFR 10.13, we determined that European Robin (Erithacus rubecula) is covered by the MBTA. See 85 FR 21282. Thus, the European Robin (Erithacus rubecula) correctly appears in the List of Migratory Birds protected by the MBTA at 50 CFR 10.13. This species should not have been included in the April 16, 2020, notice published at 85 FR 21262. Therefore, with this document, we correct the April 16, 2020, notice to remove the entry “European Robin, Erithacus rubecula” under Family Muscicapidae from the list of nonnative, human-introduced bird species to which the MBTA does not apply.

Authority

The authority for this notice is the Migratory Bird Treaty Reform Act of 2004 (Division E, Title I, Sec. 143 of the Consolidated Appropriations Act, 2005; Pub. L. 108-447), and the Migratory Bird Treaty Act (16 U.S.C. 703-712).

Signing Authority

The Assistant Director, Migratory Birds, U.S. Fish and Wildlife Service, approved this document and authorized the undersigned to sign and submit the document to the Office of the Federal Register for publication electronically as an official document of the U.S. Fish and Wildlife Service. Jerome Ford, Assistant Director, U.S. Fish and Wildlife Service, approved this document on April 28, 2021, for publication.

Madonna Baucum,
Regulations and Policy Chief, Division of Policy, Economics, Risk Management, and Analytics, Joint Administrative Operations, U.S. Fish and Wildlife Service.

[FR Doc. 2021-09250 Filed 4-30-21; 8:45 am]

BILLING CODE 4333-15-P